FEDERAL MARITIME COMMISSION

Notice of Agreement(s) Filed

The Commission hereby gives notice of the filing of the following agreement(s) under the Shipping Act of 1984. Interested parties can review or obtain copies of agreements at the Washington, DC offices of the Commission, 800 North Capitol Street, NW, Room 962. Interested parties may submit comments on an agreement to the Secretary, Federal Maritime Commission, Washington, DC 20573, within 10 days of the date this notice appears in the Federal Register.

Agreement No.: 217-011657-002.

Title: Zim/Italia-D'Amico Space Charter Agreement.

Parties: Zim Israel Navigation Company Ltd., Italia D'Navigazione S.p.A., D'Amico Di Navigazione S.p.A.

Synopsis: The parties are amending their agreement by deleting Israel from the geographic scope, revising the amount of space available to Zim, and removing restrictions on allocated space for cargo moving eastbound from Haifa and cargo loaded/discharged at Piraeus.

Agreement No.: 232-011701.

Title: P&O Nedlloyd/FMC Agreement 232-011694, Cross Space Charter and Sailing Agreement.

Parties: CGA CGM, S.A., China Shipping Container Line, P&O Nedlloyd Limited, P&O Nedlloyd B.V.

Synopsis: The proposed agreement authorizes the parties to exchange container slots and agree upon the chartering, deployment, and utilization of vessels in the trade between U.S. East Coast ports and points, and ports and points in Panama, Jamaica, and the Far East (Japan/Hong Kong range). The parties have requested expedited review.

Agreement No.: 217-011702.

Title: Hapag-Lloyd/Lykes Space Charter Agreement.

Parties: Hapag-Lloyd Container Linie GmbH (“Hapag-Lloyd”), Lykes Lines Ltd., LLC (“Lykes”).

Synopsis: The proposed Agreement would permit Lykes to charter space to Hapag-Lloyd in the trade between United States Atlantic and Gulf ports and ports in countries bordering on the Mediterranean Sea. The Agreement also provides for limited forms of cooperation in connection with the chartering of that space.

Agreement No.: 232-011703.

Title: NYKNOS/CSAV Space Charter and Sailing Agreement.

Parties: Compania Sud Americana de Vapores, S.A., NYKNOS Joint Service Agreement.

Synopsis: The proposed Agreement would permit the parties to charter space to one another and to coordinate their vessel services in the trade between the Atlantic and Gulf Coasts of the United States and ports in Panama, Colombia, Venezuela, and Pacific Coast ports in Central and South America. They would also be permitted to cooperate in matters related to equipment and various shoreside services. The parties have requested expedited review.

Dated: April 14, 2000.
By Order of the Federal Maritime Commission.
Bryant L. VanBrakle,
Secretary.

[FR Doc. 00-9828 Filed 4-18-00; 8:45 am]

BILLING CODE 6730-01-P